DEPARTMENT OF LABOR

Office of the Secretary

[DOL Docket No. DOL-2019-0007]

Privacy Act of 1974; System of Records

AGENCY: Office of the Secretary, Department of Labor.

ACTION: Notice of a new system of records.

SUMMARY: The Office of the Secretary of Labor at the Department of Labor (DOL) proposes to add a new system of records to its inventory of records systems subject to the Privacy Act of 1974, as amended. This action is necessary to meet the requirements of the Privacy Act to publish in the Federal Register notice of the existence and character of records maintained by the agency.

DATES: This System of Records Notice (SORN) is effective upon its publication in today's Federal Register with the exception of the routine uses. The new routine uses will not be effective until November 25, 2019 pending public comment. Comments on the new routine uses or other aspects of the SORN must be submitted on or before November 25, 2019.

ADDRESSES: Submit your comments by one of the following methods:

Electronic Comments: Comments may be sent via http://www.regulations.gov, a Federal E-Government website that allows the public to find, review, and submit comments on documents that agencies have published in the Federal Register and that are open for comment.

Mail: Address written submissions (including disk and CD-ROM submissions) to Hong Kim, Office of the Assistant Secretary for Policy, U.S. Department of Labor, 200 Constitution Avenue NW, Suite 2218, Washington, DC 20210, (202) 693-5959 (this is not a toll-free number).

Instructions: Please submit only one copy of your comments by only one method. All submissions must include the agency's name and the Docket Number DOL-2019-0007. Please be advised that comments received will become a matter of public record and will be posted without change to http://www.regulations.gov, including any personal information provided. Comments that are mailed must be received by the date indicated for consideration.

Docket: For access to the docket to read background documents or comments, go to the Federal e-Rulemaking Portal at http://www.regulations.gov.

FOR FURTHER INFORMATION CONTACT: Hong Kim, Office of the Assistant Secretary for Policy, U.S. Department of Labor, 200 Constitution Avenue NW, Suite 2218, Washington, DC 20210, (202) 693-5959 (this is not a toll-free number).

SUPPLEMENTARY INFORMATION: The Department of Labor has established a system of records pursuant to the Privacy Act of 1974 (5 U.S.C. 552a(e)(4)), hereinafter referred to as the Privacy Act. The Office of the Secretary of Labor notices for systems of records subject to the Privacy Act, have been published in the Federal Register and are available from the address above. The Department hereby publishes notice of one new system of records.

The Federal Docket Management System (FDMS) allows the public to search, view, download, and comment on all Federal agency rulemaking documents in one central online system. The FDMS serves as a central electronic repository for all Federal rulemaking dockets, which include Federal Register notices, supporting materials such as scientific or economic analyses, and public comments, as well as non-rulemaking dockets. The FDMS is a system used by all Federal agencies that conduct rulemakings. Each agency is responsible for managing its own docket and rulemaking documents.

The proposed new system is entitled DOL/CENTRAL-8, Department of Labor Federal Docket Management System (DOLFDMS). This system contains records submitted via the FDMS. The proposed new system, as required by 5 U.S.C. 552a(r) of the Privacy Act of 1974, as amended, was submitted to the Office of Management and Budget, the Committee on Oversight and Government Reform of the House of Representatives, and the Committee on Homeland Security and Governmental Affairs of the Senate pursuant to OMB Circular A-108.

System Name and Number:

Department of Labor Federal Docket Management System (DOLFDMS), DOL/CENTRAL-8.

Security Classification:

Unclassified.

System Location:

Primary location: Offices in various components within the U.S. Department of Labor, at the Frances Perkins Building, 200 Constitution Avenue NW, Washington, DC 20210, or other Department offices. Additionally, pursuant to the Department of Labor's Flexiplace Programs (also known as “telework” pursuant to the Telework Enhancement Act), copies of records may be temporarily located at alternative worksites, including employees' homes or at geographically convenient satellite offices for part of the workweek. All appropriate safeguards will be taken at these sites.

Third-party service provider: General Services Administration, 1800 F Street NW, Washington, DC 20405.

System Manager(s):

Hong Kim, Office of the Assistant Secretary for Policy, Office of Regulatory and Programmatic Policy, U.S. Department of Labor, 200 Constitution Avenue NW, Suite 2218, Washington, DC 20210, (202) 693-5959 (this is not a toll-free number).

Authority for Maintenance of the System:

The Administrative Procedure Act, 5 U.S.C § 551 et seq. (1946); The Paperwork Reduction Act, 44 U.S.C. 3501 et seq. (1995).

Purpose(s) of the System:

The purpose of this system of records is to permit the Department of Labor (DOL) to identify individuals who have submitted comments in response to DOL and component sub-agencies rulemaking documents or notices so that communications or other actions, as appropriate and necessary, can be effected, such as a need to seek clarification of the comment, providing a direct response if warranted, and for such other needs as may be associated with the rulemaking or notice process. Additional purposes include providing the public with a central online location to search, view, download and comment on Federal rulemaking documents.

Categories of Individuals Covered by the System:

Any individual who provides personal information when submitting a public comment and/or supporting materials in response to a Department of Labor, or its sub-agencies, rulemaking document or notice.

Categories of Records in the System:

Agency rulemaking materials including, but not limited to, Federal Register publications, supporting rulemaking documentation, scientific and financial studies and public comments. Information submitted by public comment may include full name, postal address, email address, phone and fax number, name of the organization the individual represents, name of any individual serving as a representative for the individual submitting the comment, and the comments, as well as other supporting documentation, furnished by the individual.

Record Source Categories:

Records deriving from individuals commenting on Federal rulemaking activities.

Routine Uses of Records Maintained in the System, Including Categories of Users and Purposes of Such Uses:

In addition to those disclosures generally permitted under 5 U.S.C. 552a(b) of the Privacy Act, all or a portion of the records or information contained in this system may be disclosed to authorized entities, as is determined to be relevant and necessary, outside DOL as a routine use pursuant to 5 U.S.C. 552a(b)(3) as follows:

Congressional Inquiries Disclosure Routine Use:

The following Universal Routine Use for DOL Privacy Act Systems applies: Disclosure from a system of records maintained by a DOL Agency may be made to a Member of Congress or to a Congressional staff member in response to an inquiry of the Congressional office made at the written request of the constituent about whom the record is maintained.

Disclosure to the Department of Justice for Litigation Routine Use:

The following Universal Routine Use for DOL Privacy Act Systems applies: To the Department of Justice when: (a) DOL or any component thereof; or (b) any employee of DOL in his or her official capacity; or (c) the United States Government, is a party to litigation or has an interest in such litigation, and by careful review, DOL determines that the records are both relevant and necessary to the litigation, and the use of such records by the Department of Justice is for a purpose that is compatible with the purpose for which DOL collected the records.

Disclosure of Information to the National Archives and Records Administration Routine Use:

The following Universal Routine Use for DOL Privacy Act Systems applies: A record from a system of records maintained by a DOL Agency may be disclosed as a routine use to the National Archives and Records Administration for the purpose of records management inspections conducted under authority of 44 U.S.C. 2904 and 2906.

Privacy Act Routine Uses Required to Respond to a Breach:

(1) To appropriate agencies, entities, and persons when (1) DOL suspects or has confirmed that there has been a breach of the system of records, (2) DOL has determined that as a result of the suspected or confirmed breach there is a risk of harm to individuals, DOL (including its information systems, programs, and operations), the Federal Government, or national security; and (3) the disclosure made to such agencies, entities, and persons is reasonably necessary to assist in connection with DOL efforts to respond to the suspected or confirmed breach or to prevent, minimize, or remedy such harm.

(2) To another Federal agency or Federal entity, when DOL determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

Policies and Practices for Storage of Records:

Paper file folders and electronic storage media.

Policies and Practices for Retrieval of Records:

The system has the ability to retrieve records by numerous data elements and key word searches, including name, agency, dates, subject, docket type, docket sub-type, agency docket ID, docket title, docket category, document type, CFR Part, date received, Federal Register publication date, and other information retrievable with full-text searching capability.

Policies and Practices for Retention and Disposal of Records:

Comments on rulemaking are permanent; retired to a Federal Records Center when superseded; and transferred to the National Archives when 30 years old. Comments on notices are disposed of after one (1) year.

Administrative, Technical, and Physical Safeguards:

Records are maintained in a secure, password protected electronic system that utilizes security hardware and software to include: Multiple firewalls, active intruder detection, and role-based access controls. Paper records will be maintained in a controlled facility where physical entry is restricted by the use of locks, guards, or administrative procedures. Access to records is limited to those officials who require the records to perform their official duties consistent with the purpose for which the information was collected. All personnel whose official duties require access to the information are trained in the proper safeguarding and use of the information.

Record Access Procedures:

Individuals seeking access to records about themselves contained in this system of records should address a written request to the Office of the Assistant Secretary for Policy, Office of Regulatory and Programmatic Policy, 200 Constitution Avenue NW, Washington, DC 20210.

Signed, written requests should contain full name, address, and telephone number. As appropriate, requests may be referred to the DOL Agency responsible for the rulemaking or notice for processing.

Note: FDMS permits a member of the public to download any of the public comments received. If an individual has voluntarily furnished his or her name when submitting the comment, the individual, as well as the public, can view and download the comment by searching on the name of the individual. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.

Contesting Record Procedures:

A petition for amendment should be mailed to the System Manager, and should include contact information for the requester. Requests for correction or amendment must identify the record to be changed and the corrective action sought.

Notification Procedures:

Individuals seeking to determine whether this system of records contains information about themselves should address written inquiries to the Department of Labor, Office of the Assistant Secretary for Policy, Office of Regulatory and Programmatic Policy, 200 Constitution Avenue NW, Washington, DC 20210. Requests should contain full name, address, and telephone number.

Note: FDMS permits an individual, as well as a member of the public, to search the public comments received by the name of the individual submitting the comment. Unless the individual submits the comment anonymously, a name search will result in the comment being displayed for view. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.

Exemptions Promulgated for the System:

None.

History:

None.

Dated: October 16, 2019.
Bryan Slater,
Assistant Secretary for Administration & Management.

[FR Doc. 2019-22922 Filed 10-24-19; 8:45 am]

BILLING CODE 4510-04-P